INTERNATIONAL TRADE COMMISSION

[Investigation No. 337-TA-1385]

Certain Furniture Products Finished With Decorative Wood Grain Paper and Components Thereof; Notice of Commission Determination Not To Review an Initial Determination Terminating the Investigation Based on Withdrawal of the Complaint

AGENCY: International Trade Commission.

ACTION: Notice.

SUMMARY: Notice is hereby given that the U.S. International Trade Commission has determined not to review an initial determination (“ID”) (Order No. 8) issued by the presiding administrative law judge (“ALJ”), terminating the investigation in its entirety based on the withdrawal of the complaint.

FOR FURTHER INFORMATION CONTACT: Robert J. Needham, Esq., Office of the General Counsel, U.S. International Trade Commission, 500 E Street SW, Washington, DC 20436, telephone (202) 708-5468. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on January 12, 2024, based on a complaint filed by Toppan Interamerica, Inc. of McDonough, Georgia (“Toppan”). 89 FR 2252-53 (Jan. 12, 2024). The complaint alleges violations of section 337 of the Tariff Act of 1930, as amended, 19 U.S.C. 1337, in the importation into the United States, the sale for importation, or the sale within the United States after importation of certain furniture products finished with decorative wood grain paper and components thereof by reason of infringement of one or more of U.S. Copyright Registration Nos. VA 2-142-287, VA 2-176-002, VA 2-142-295, and 2-142-292. Id. at 2252. The complaint further alleges that a domestic industry exists. Id. The Commission's notice of investigation named as respondent Whalen LLC d/b/a Whalen Furniture of San Diego, California. Id. at 2253. The Office of Unfair Import Investigations is not participating in the investigation. Id.

On April 4, 2024, Toppan filed an unopposed motion to terminate the investigation based on the withdrawal of the complaint. No party responded to the motion.

On April 5, 2024, the ALJ issued the subject ID pursuant to Commission Rule 210.21(a) (19 CFR 210.21(a)), granting the motion to terminate the investigation in its entirety. The ID finds that there are no extraordinary circumstances that would prevent the requested termination of the investigation. No party petitioned for review of the subject ID.

The Commission has determined not to review the subject ID. The investigation is hereby terminated in its entirety.

The Commission vote for this determination took place on April 26, 2024.

The authority for the Commission's determination is contained in section 337 of the Tariff Act of 1930, as amended (19 U.S.C. 1337), and in Part 210 of the Commission's Rules of Practice and Procedure (19 CFR part 210).

By order of the Commission.
Issued: April 26, 2024.
Lisa Barton,
Secretary to the Commission.

[FR Doc. 2024-09448 Filed 4-30-24; 8:45 am]

BILLING CODE 7020-02-P